DEPARTMENT OF ENERGY

Federal Energy Regulatory Commission

[Project No. 2850-014—NY]

Hampshire Paper Company; Notice Rejecting Application, Waiving Regulations, and Soliciting Applications

June 15, 2010.

On June 2, 2010, Hampshire Paper Company (Hampshire Paper), licensee for the Emeryville Hydroelectric Project No. 2850, filed an application for a new license for the project pursuant to Section 15(b)(1) of the Federal Power Act (Act). The license application was untimely filed and is hereby rejected.¹

¹ Hampshire Paper was issued a major license for the project on June 17, 1982, for a term of 30 years, effective the first day of the month in which the order was issued. 19 FERC ¶ 62,491 (1982). The license therefore expired on May 31, 2012, and the statutory deadline for filing a new license application was May 31, 2010. See § 15(c)(1), 16 U.S.C. 808(c)(1). Since May 31 was a legal holiday, the deadline for filing a new license application was the first business day following that day, June 1, 2010. See 18 CFR 385.2007 (2009).

The project is located on the mainstem of the Oswegatchie River at approximate river mile 70 in the hamlet of Emeryville, town of Fowler, St. Lawrence County New York. The project consists of: (1) A 22-foot-high concrete gravity dam with a 185-foot- long overflow spillway equipped with 2.4-foot-high flashboards and a 4-foot-wide minimum flow rectangular weir with a minimum elevation of 584.2 feet mean sea level (msl); (2) a 35-acre reservoir with a normal water surface elevation of 586.6 feet msl; (3) a 37-foot-long by 33-foot-wide reinforced concrete intake structure equipped with four headgates connected to; (4) a 123-foot-long by 21-foot-wide steel reinforced wooden power flume equipped with a trashrack with 2-inch clear spacing connected to; (5) a 60-foot-long by 14-foot-diameter steel penstock leading to; (6) a powerhouse containing a single generating unit with a rated capacity of 3,481 kilowatts for an estimated average annual generation of 18,400 megawatt-hours; (7) an 80-foot-long, 23-kilovolt transmission line; and (8) appurtenant facilities.

As a result of the rejection of Hampshire Paper's application and pursuant to Section 16.25 of the Commission's regulations, the Commission is soliciting license applications from potential applicants. This is necessary because the deadline for filing an application for new license and any competing license applications, pursuant to Section 16.9 of the Commission's regulations was June 1, 2010, and no other applications for license for this project were filed. With this notice, we are waiving those parts of Section 16.24(a) and 16.25(a) which bar an existing licensee that missed the two-year application filing deadline from filing another application. Further, since Hampshire Paper completed the consultation requirements pursuant to Part 5 of the Integrated Licensing Process, we are waiving the consultation requirements in Section 16.8 for the existing licensee. Consequently, Hampshire Paper will be allowed to refile a license application and compete for the license and the incumbent preference established by the FPA Section 15(a)(2) will apply.²

² See Pacific Gas and Electric Co., 98 FERC ¶ 61,032 (2002), reh'g denied, 99 FERC ¶61,045 (2002), aff'd, City of Fremont v. FERC, 336 F.3d 910 (9th Cir. 2003).

The licensee is required to make available certain information described in Section 16.7 of the regulations. For more information from the licensee, please contact Mr. Michael McDonald, Facility Manager, Hampshire Paper Company, Inc., P.O. Box 339, Gouverneur, New York 13642, (315) 287-1990, or Mr. Dana Dougherty, Stantec Consulting Michigan, Inc., 3959 Research Park Drive, Ann Arbor, Michigan 48108, (734) 761-1010.

Pursuant to Section 16.25(b), a potential applicant that files a notice of intent within 90 days from the date of this notice: (1) May apply for a license under Part I of the Act and Part 4 (except Section 4.38) of the Commission's Regulations within 18 months of the date on which it files its notice; and (2) must comply with Sections 16.8 and 16.10 of the Commission's Regulations.

Questions concerning this notice should be directed to John Baummer, (202) 502-6837 or john.baummer@ferc.gov.

Kimberly D. Bose,
Secretary.

[FR Doc. 2010-14957 Filed 6-18-10; 8:45 am]

BILLING CODE 6717-01-P